DEPARTMENT OF HEALTH AND HUMAN SERVICES

Food and Drug Administration

[FDA 225-06-8001]

Memorandum of Understanding Between the Food and Drug Administration, Department of Health and Human Services, of the United States of America and the Certification and Accreditation Administration of the People's Republic of China Covering Ceramicware Intended for Use in the Preparation, Serving or Storage of Food or Drink and Offered for Export to the United States of America

AGENCY: Food and Drug Administration, HHS.

ACTION: Notice.

SUMMARY: The Food and Drug Administration (FDA) is providing notice of a memorandum of understanding (MOU) between the Food and Drug Administration, Department of Health and Human Services, of the United States of America and the Certification and Accreditation Administration of the People's Republic of China (CNCA).

The purpose of this MOU is to establish a certification system that increases the likelihood that daily-use ceramicware manufactured in the People's Republic of China (China) and offered for import into the United States complies with U.S. law. To that end, this MOU sets forth the criteria for certification of ceramicware to be exported directly from China to the United States and intended for use in the preparation, serving, or storage of food, and for certification of firms in China that are manufacturing such ceramicware. These certifications will enable FDA to reduce the frequency of its sampling of daily-use ceramicware from factories in China certified by CNCA/China Entry-Exit Inspection and Quarantine Bureaus (CIQs) and offered for import into the United States, in accordance with FDA's confidence in the effectiveness of the CNCA/CIQ factory certification system.

DATES: The agreement became effective January 26, 2006 (last signature date of the Chinese version of the MOU).

FOR FURTHER INFORMATION CONTACT: Matthew E. Eckel, Office of International Programs (HFG-1), Food and Drug Administration, 5600 Fishers Lane, Rockville MD, 20857, 301-827-4480, FAX: 301-480-0716.

SUPPLEMENTARY INFORMATION: In accordance with 21 CFR 20.108(c), which states that all written agreements and understandings between FDA and others shall be published in the Federal Register, the agency is publishing notice of this MOU.

Dated: March 17, 2006.
Jeffrey Shuren,
Assistant Commissioner for Policy.

BILLING CODE 4160-01-S

[FR Doc. 06-2894 Filed 3-24-06; 8:45 am]

BILLING CODE 4160-01-C